DEPARTMENT OF DEFENSE

Office of the Secretary

Strategic Environmental Research and Development Program, Scientific Advisory Board; Correction

AGENCY: Department of Defense.

ACTION: Notice; correction.

SUMMARY: The Department of Defense published a document in the Federal Register of February 1, 2005, concerning an announcement of a committee meeting, in accordance with Section 1 0(a)(2) of the Federal Advisory Committee Act (Pub. L. 92-463). The meeting time has now been changed.

FOR FURTHER INFORMATION CONTACT: Ms. Taunya King, SERDP Program Office, 901 North Stuart Street, Suite 303, Arlington, VA or by telephone at (703) 696-2124.

Correction

In the Federal Register of February 1, 2005, in FR Doc. 01fe05-49, on page 5170, in the second column, correct the DATES caption to read: March 15, 2005 from 0900 to 1700 and March 16, 2005 from 0800 to 1525.

Dated: February 28, 2005.
Jeannette Owings-Ballard,
OSD Federal Register Liaison Officer, Department of Defense.

[FR Doc. 05-4371 Filed 3-4-05; 8:45 am]

BILLING CODE 5001-06-P